DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before July 8, 2009.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-013-C.

Petitioner: Wolf Run Mining Company, LLC, RT 3 Box 146, Philippi, West Virginia 26416.

Mine: Sentinel Mine, MSHA I.D. No. 46-04168, located in Barbour County, West Virginia.

Regulation Affected: 30 CFR 75.1101-1(b) (Deluge-type water spray systems).

Modification Request: The petitioner requests a modification of the existing standard to not provide blow-off dust covers on nozzles on deluge type systems. The petitioner states that although more than adequate pressure and flow rates for the deluge system are maintained, in some tests, the dust covers do not come off all sprays. The petitioner proposes to continue its weekly functional testing of the complete deluge-type water spray system. The petitioner further states that dust covers are not necessary because the system will be inspected and maintained weekly. The petitioner asserts that the proposed alternative method will at all times guarantee no less than the same measure of protection afforded the miners by the existing standard.

Docket Number: M-2009-014-C.

Petitioner: Jim Walter Resources, Inc., P.O. Box 133, Brookwood, Alabama 35444.

Mine: No. 4 Mine, MSHA I.D. No. 01-01247, located in Tuscaloosa County, Alabama.

Regulation Affected: 30 CFR 75.351(q)(2) (Atmospheric monitoring systems).

Modification Request: The petitioner requests a modification of the existing standard to permit the mine manager at the No. 4 Mine to certify in writing, once every six months that the CO Supervisor has demonstrated competence in the subject matter of the referenced standard without requiring him to travel underground. The petitioner states that: (1) The room where the CO Supervisor works is equipped with more than a dozen cameras trained on key underground areas, and these cameras give the CO Supervisor a real-time continual view of activities and events in these areas; (2) the room where the CO Supervisor works is equipped with computer equipment that is part of a monitoring system that gives a more extensive continual view of the No. 4 Mines underground workings; and (3) the room where the CO Supervisor works is equipped with an underground mine map that is regularly updated, and the CO Supervisor regularly refers to this map when performing his duties. The petitioner further states that allowing the mine manger at the No. 4 Mine to certify in writing, once every six months that the CO Supervisor has demonstrated competence in the subject matter of the referenced standard without requiring him to travel underground will advance the safety and health purposes of the Act and will at all times guarantee at least the same measure of safety to the miners as the referenced standard.

Docket Number: M-2009-002-M.

Petitioner: Resolution Copper Mining, 102 Magma Heights, P.O. Box 1944, Superior, Arizona 85273.

Mine: Resolution Copper Mine, MSHA I.D. No. 02-00152, located in Pinal County, Arizona.

Regulation Affected: 30 CFR 57.15030 (Provision and maintenance of self-rescue devices).

Modification Request: The petitioner requests a modification of the existing standard to permit the miner to wear the Ocenco M-20 self-contained self-rescue (SCSR) (MSHA rated 10 minutes) unit on their person and a 60 minute unit (the CSE SR-100 or equivalent MSHA rated for 60 minutes) on their vehicles or equipment. The petitioner states that: (1) In addition, caches of these units will be placed and maintained at strategic locations within 300 to 500 feet or 5 minutes maximum of the employee; (2) the combination of devices will be made available to all employees working underground and maintained in good condition; and (3) every underground miner will be trained on an annual basis in the use, limitations, care, and donning (including transition donning) of self-contained self-rescue devices. The petitioner further states that: (1) This proposal will satisfy the State Mining Act while enabling the miners to wear an ergonomically suitable SCSR on their belt; (2) the alternative to the smaller M-20 type are bulky and heavy units that will expose the miners to additional risk associated with a large and heavy unit hanging off their belt; and (3) the current MSA W-65 filter self-rescuer (Approval No. TC-14G-82) weighs 2.2 pounds, and the smallest SCSR is the SR-100 which weighs 6 pounds and is approximately 2.5 pounds larger than the W-65 filter and is awkward to wear. The petitioner asserts that the proposed alternative method would provide at least the same measure of protection as the existing standard.

Docket Number: M-2009-003-M.

Petitioner: Resolution Copper Mining, 102 Magma Heights, P.O. Box 1944, Superior, Arizona 85273.

Mine: Resolution Copper Mine, MSHA I.D. No. 02-00152, located in Pinal County, Arizona.

Regulation Affected: 30 CFR 57.15031 (Location of self-rescue devices).

Modification Request: The petitioner requests a modification of the existing standard to permit the miner to wear the Ocenco M-20 self-contained self-rescue (SCSR) (MSHA rated 10 minutes) unit on their person and a 60 minute unit (the CSE SR-100 or equivalent MSHA rated for 60 minutes) on their vehicles or equipment. The petitioner states that: (1) In addition, caches of these units will be placed and maintained at) strategic locations within 300 to 500 feet or 5 minutes maximum of the employee; (2) the combination of devices will be made available to all employees working underground and maintained in good condition; and (3) every underground miner will be trained on an annual basis in the use, limitations, care, and donning (including transition donning) of self-contained self-rescue devices. The petitioner further states that: (1) This proposal will satisfy the State Mining Act while enabling the miners to wear an ergonomically suitable SCSR on their belt; (2) the alternative to the smaller M-20 type are bulky and heavy units that will expose the miners to additional risk associated with a large and heavy unit hanging off their belt; and (3) the current MSA W-65 filter self-rescuer (Approval No. TC-14G-82) weighs 2.2 pounds, and the smallest SCSR is the SR-100 which weighs 6 pounds and is approximately 2.5 pounds larger than the W-65 filter and is awkward to wear. The petitioner asserts that the proposed alternative method would provide at least the same measure of protection as the existing standard.

Patricia W. Silvey,
Director, Office of Standards, Regulations and Variances.

[FR Doc. E9-13173 Filed 6-5-09; 8:45 am]

BILLING CODE 4510-43-P